DEPARTMENT OF TRANSPORTATION

Federal Aviation Administration

14 CFR Part 39

[Docket No. FAA-2006-25219; Directorate Identifier 2005-NM-259-AD]

RIN 2120-AA64

Airworthiness Directives; Fokker Model F27 Mark 050 and Model F.28 Mark 0070 and 0100 Airplanes

AGENCY: Federal Aviation Administration (FAA), Department of Transportation (DOT).

ACTION: Notice of proposed rulemaking (NPRM).

SUMMARY: The FAA proposes to adopt a new airworthiness directive (AD) for certain Fokker Model F27 Mark 050 and Model F.28 Mark 0070 and 0100 airplanes. This proposed AD would require repetitively removing the two existing escape rope assemblies in the flight compartment and installing new escape rope assemblies. This proposed AD results from reports of findings of small cracks in the polyester assembly block in which the cotton escape rope is stored. A test revealed that the escape ropes had deteriorated over time, and the load capability was considerably reduced. We are proposing this AD to ensure that flightcrew members safely reach the ground after exiting the flight compartment window during an emergency evacuation.

DATES: We must receive comments on this proposed AD by July 31, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Fokker Services B.V., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “FAA-2006-25219; Directorate Identifier 2005-NM-259-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority—The Netherlands (CAA-NL), which is the airworthiness authority for The Netherlands, notified us that an unsafe condition may exist on Fokker Model F27 Mark 050 and Model F.28 Mark 0070 and 0100 airplanes with escape rope assemblies in the flight compartment. The CAA-NL advises that some operators reported finding small cracks in the polyester assembly block in which the cotton escape rope is stored. To establish the strength of the escape rope in the flight compartment after subsequent repair of the assembly block, a tensile test was done which revealed that the ropes had deteriorated over time, and the load bearing capability was considerably reduced. Correcting this condition would ensure that the flightcrew safely reach the ground after exiting the flight compartment window during an emergency evacuation.

Relevant Service Information

Fokker Services B.V. has issued Fokker Service Bulletin SBF50-25-059 (for Model F27 Mark 050 airplanes) and Fokker Service Bulletin SBF100-25-099 (for Model F.28 Mark 0070 and 0100 airplanes), both dated June 28, 2004. The service bulletins describe procedures for removing the two existing escape rope assemblies in the flight compartment and installing new escape rope assemblies. The service bulletins also specify sending the removed escape ropes to Fokker Services B.V. Accomplishing the actions specified in the service information is intended to adequately address the unsafe condition. The CAA-NL mandated the service information and issued Dutch airworthiness directive 2004-159, dated December 24, 2004, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for airplanes of this type design that are certificated for operation in the United States.

Therefore, we are proposing this AD, which would require accomplishing the actions specified in the service information described previously, except as discussed under “Differences Among Proposed AD, Dutch Airworthiness Directive, and Service Information.”

Differences Among Proposed AD, Dutch Airworthiness Directive, and Service Information

The Dutch airworthiness directive requires amending the airplane maintenance schedule within one year after the effective date of the Dutch airworthiness directive to include a new discard task for the escape ropes after 6 years time-in-service. However, this proposed AD does not mandate a change to the maintenance schedule, but would instead require repeating the removal of the existing escape rope assemblies and installation of new escape rope assemblies every 72 months. These actions are essentially the same as the discard task (which would include replacement after discarding the escape ropes) required by the Dutch airworthiness directive.

Although the Accomplishment Instructions of the referenced service bulletins describe procedures for sending the escape ropes to Fokker Service B.V. after removal, this proposed AD would not require those actions. We do not have the authority to direct operators to return defective components to the parts manufacturer; we can only require repair or replacement of defective components that are installed on the airplane.

Costs of Compliance

This proposed AD would affect about 2 airplanes of U.S. registry. The proposed removal and installation would take about 2 work hours per airplane, at an average labor rate of $80 per work hour. Required parts would cost between $387 and $425 per airplane, depending on airplane configuration. Based on these figures, the estimated cost of the proposed AD for U.S. operators is between $1,094 and $1,170, or between $547 and $585 per airplane, per removal and installation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Fokker Services B.V.: Docket No. FAA-2006-25219; Directorate Identifier 2005-NM-259-AD.

Comments Due Date

(a) The FAA must receive comments on this AD action by July 31, 2006.

Affected ADs

(b) None.

Applicability

(c) This AD applies to Fokker Model F27 Mark 050 and Model F.28 Mark 0070 and 0100 airplanes, certificated in any category; with escape rope assemblies in the flight compartment.

Unsafe Condition

(d) This AD results from reports of findings of small cracks in the polyester assembly block in which the cotton escape rope is stored. A test revealed that the escape ropes had deteriorated over time, and the load capability was considerably reduced. We are issuing this AD to ensure that flightcrew members safely reach the ground after exiting the flight compartment window during an emergency evacuation.

Compliance

(e) You are responsible for having the actions required by this AD performed within the compliance times specified, unless the actions have already been done.

Replacement

(f) Within 12 months after the effective date of this AD: Remove the two existing escape rope assemblies in the flight compartment and install new escape rope assemblies in accordance with the Accomplishment Instructions of Fokker Service Bulletin SBF50-25-59 (for Model F27 Mark 050 airplanes); and Fokker Service Bulletin SBF100-25-099 (for Model F.28 Mark 0070 and 0100 airplanes); both dated June 28, 2004. Repeat the removal and installation thereafter at intervals not to exceed 72 months.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Dutch airworthiness directive 2004-159, dated December 24, 2004, also addresses the subject of this AD.

Issued in Renton, Washington, on June 22, 2006.
Kalene C. Yanamura,
Acting Manager, Transport Airplane Directorate, Aircraft Certification Service.

[FR Doc. 06-5873 Filed 6-29-06; 8:45 am]

BILLING CODE 4910-13-P